DEPARTMENT OF THE TREASURY

Submission for OMB Review; Comment Request

November 17, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 26, 2006 to be assured of consideration.

Internal Revenue Service (IRS)

OMB Number: 1545-1707.

Type of Review: Extension.

Title: Estate Tax; Extension to File.

Form: 706.

Description: This collection involves regulations relating to the filing of an application for an automatic 6-month extension of time to file an estate tax return (Form 706). The regulations provide guidance to executors of decedents' estates on how to properly file the application for the automatic extension.

Respondents: Individuals or Households.

Estimated Total Burden Hours: 1 hour.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E6-19871 Filed 11-22-06; 8:45 am]

BILLING CODE 4830-01-P